DEPARTMENT OF HEALTH AND HUMAN SERVICES

Centers for Disease Control and Prevention

Task Force on Community Preventive Services

Name: Task Force on Community Preventive Services meeting.

Times and Dates: 8 a.m.-5:30 p.m. EST, February 17, 2010; 8 a.m.-1 p.m. EST, February 18, 2010.

Place: Centers for Disease Control and Prevention, 2500 Century Parkway, Atlanta, Georgia 30345.

Status: Open to the public, limited only by space available.

Purpose: The mission of the Task Force is to develop and publish the Guide to Community Preventive Services (Community Guide), which is based on the best available scientific evidence and current expertise regarding essential public health and what works in the delivery of those services.

Matters To Be Discussed: Updates of reviews of interventions to increase screening for breast, cervical and colorectal cancer, interventions to increase vaccination rates, and interventions to increase physical activity; reviews of effectiveness of collaborative care for the management of depressive disorders and of interventions to reduce the overservice of alcohol; and the scope of reviews of interventions to reduce inequalities in health outcomes.

Agenda items are subject to change as priorities dictate.

Contact person or additional information: Nasheka Powell, Community Guide Branch, Centers for Disease Control and Prevention, 1600 Clifton Road, M/S E-69, Atlanta, GA 30333, phone: 404.498.1123.

Dated: January 20, 2010.
Tanja Popovic,
Chief Science Officer, Centers for Disease Control and Prevention.

[FR Doc. 2010-1569 Filed 1-26-10; 8:45 a.m.]

BILLING CODE 4163-18-P